SECURITIES AND EXCHANGE COMMISSION

Proposed Collection; Comment Request

Upon Written Request, Copies Available From: Securities and Exchange Commission, Office of Filings and Information Services, Washington, DC 20549.

Extension:

Form F-3, OMB Control No. 3235-0256, SEC File No. 270-251

Form F-7, OMB Control No. 3235-0383, SEC File No. 270-331

Form F-8, OMB Control No. 3235-0378, SEC File No. 270-332

Schedule 14D-1F, OMB Control No. 3235-0376, SEC File No. 270-338

Schedule 14D-9F, OMB Control No. 3235-0382, SEC File No. 270-339

Notice is hereby given that pursuant to the Paperwork Reduction Act of 1995 (44 U.S.C. 3501 et seq.) the Securities and Exchange Commission (“Commission”) is soliciting comments on the collections of information summarized below. The Commission plans to submit these existing collections of information to the Office of Management Budget for extension and approval.

Form F-3 is used by foreign issuers to register securities pursuant to the Securities Act of 1933. The information collected is intended to ensure that the information required to be filed by the Commission permits verification of compliance with securities law requirements and assures the public availability of such information. Form F-3 takes approximately 166 hours per response and is filed by approximately 120 respondents for a total burden of 19,920 hours. It is estimated that 25% of the total burden hours (4,980 reporting burden hours) is prepared by the issuer.

Form F-7 may be used to register under the Securities Act securities offered for cash upon exercise of rights that are granted to its existing shareholders of the registrant to purchase or subscribe such securities. The information collected is intended to ensure that the information required to be filed by the Commission permits verification of compliance with securities law requirements and assures the public availability of such information. Approximately 5 respondents file Form F-7 and it takes approximately 4 hours per response for a total burden of 20 hours. It is estimated that 25% of the total burden hours (5 reporting burden hours) is prepared by the company.

Form F-8 may be used to register under the Securities Act securities of certain Canadian issuers to be used in exchange offers or business combinations. The information collected is intended to ensure that the information required to be filed by the Commission permits verification of compliance with securities law requirements and assures the public availability of such information. Approximately 10 respondents file Form F-8 and it takes approximately 1 hour per response for a total burden of 10 hours. It is estimated that 25% of the total burden hours (2.5 reporting burden hours) is prepared by the company.

Schedule 14D-1F may be used by any person making a cash tender or exchange offer (the “bidder”) for securities of any issuer incorporated or organized under the laws of Canada or any Canadian province or territory that is a foreign private issuer, where less than 40% of the outstanding class of such issuer's securities that is the subject of the offer is held by U.S. holders. Schedule 14D-1F is designed to facilitate cross-border transactions in securities of Canadian issuers. The information required to be filed with the Commission is intended to permit verification of compliance with the securities law requirements and assures the public availability of such information. Approximately 5 respondents file Schedule 14D-1F and it takes approximately 2 hours per response for total burden of 10 hours.

Schedule 14D-9F is used by any issuer incorporated or organized under the laws of Canada or any Canadian province or territory that is foreign private issuer (the “subject company”), or by any director or officer of such issuer, where the issuer's is the subject of a cash tender or exchange offer for a class of securities filed on Schedule 14D-1F. The information required to be filed with the Commission is intended to permit verification of compliance with the securities law requirements and assures the public availability of such information. Approximately 5 respondents file Schedule 14D-9F and it takes approximately 2 hours per response for total burden of 10 hours.

Written comments are invited on: (a) Whether these proposed collections of information are necessary for the proper performance of the functions of the agency, including whether the information will have practical utility; (b) the accuracy of the agency's estimate of the burden of the collection of information; (c) ways to enhance the quality, utility, and clarity of the information collected; and (d) ways to minimize the burden of the collection of information on respondents, including through the use of automated collection techniques or other forms of information technology. Consideration will be given to comments and suggestions submitted in writing within 60 days of this publication.

Please direct your written comments to Kenneth A. Fogash, Acting Associate Executive Director/CIO, Office of Information Technology, Securities and Exchange Commission, 450 Fifth Street, NW., Washington, DC 20549.

Dated: June 2, 2003.
Margaret H. McFarland,
Deputy Secretary.

[FR Doc. 03-14828 Filed 6-11-03; 8:45 am]

BILLING CODE 8010-01-P